NATIONAL CREDIT UNION ADMINISTRATION

12 CFR Part 747

Administrative Actions, Adjudicative Hearings, Rules of Practice and Procedure, and Investigations

CFR Correction

In Title 12 of the Code of Federal Regulations, Parts 600 to 899, revised as of January 1, 2015, on page 918, in § 747.616, remove the term “Office of the Controller” and add the term “Office of Chief Financial Officer” in its place.

[FR Doc. 2015-31732 Filed 12-16-15; 8:45 am]

BILLING CODE 1505-01-P